INTERNATIONAL TRADE COMMISSION

[Investigation Nos. 731-TA-313-314, 317, and 379 (Fourth Review)]

Brass Sheet and Strip From France, Germany, Italy, and Japan; Determinations

On the basis of the record ¹ developed in the subject five-year reviews, the United States International Trade Commission (“Commission”) determines, pursuant to the Tariff Act of 1930 (“the Act”), that revocation of the antidumping duty orders on brass sheet and strip from France, Germany, Italy, and Japan would be likely to lead to continuation or recurrence of material injury to an industry in the United States within a reasonably foreseeable time.

¹ The record is defined in sec. 207.2(f) of the Commission's Rules of Practice and Procedure (19 CFR 207.2(f)).

Background

The Commission, pursuant to section 751(c) of the Act (19 U.S.C. 1675(c)), instituted these reviews on March 1, 2017 (82 FR 12238) and determined on June 5, 2017 that it would conduct expedited reviews (82 FR 32871, July 18, 2017).

The Commission made these determinations pursuant to section 751(c) of the Act (19 U.S.C. 1675(c)). It completed and filed its determinations in these reviews on October 13, 2017. The views of the Commission are contained in USITC Publication 4733 (October 2017), entitled Brass Sheet and Strip from France, Germany, Italy, and Japan: Investigation Nos. 731-TA-313-314, 317, and 379 (Fourth Review).

By order of the Commission.
Issued: October 13, 2017.
Jessica Mullan,
Attorney Advisor.

[FR Doc. 2017-22653 Filed 10-18-17; 8:45 am]

BILLING CODE 7020-02-P